DEPARTMENT OF JUSTICE

Antitrust Division

Notice Pursuant to the National Cooperative Research and Production Act of 1993—Internet Streaming Media Alliance, Inc.

Notice is hereby given that, on September 5, 2003, pursuant to section 6(a) of the National Cooperative Research and Production Act of 1993, 15 U.S.C. 4301 et seq. (“the Act”), Internet Streaming Media Alliance, Inc. has filed written notifications simultaneously with the Attorney General and the Federal Trade Commission disclosing changes in its membership status. The notifications were filed for the purpose of extending the Act's provisions limiting the recovery of antitrust plaintiffs to actual damages under specified circumstances. Specifically, Analog Devices, Inc., Norwood, MA; AOL Time Warner, Inc., New York, NY; BitBand Technologies Ltd, Tel Aviv, Israel; Coding Technologies, Nuremberg, Germany; Content Guard, Bethesda, MD; Dolby Laboratories Inc., San Francisco, CA; Envivio, San Francisco, CA; France Telecom, Cesson Sevigne, France; Fraunhofer Institute for Integrated Circuits, Erlangen, Germany; Hitachi, Kawasaki, Japan; iVast, Inc., Santa Clara, CA; Matsushita Electric Industrial, Kadoma City, Japan; Nagra Vision, Cheseaux, Switzerland; National Semiconductor Corporation, Longmont, CO; NDS Technologies, Jerusalem, Israel; NeoMagic Corporation, Santa Clara, CA; net&tv, Seoul, Republic of Korea; Network Appliance, Sunnyvale, CA; Nextreaming, Seoul, Republic of Korea; Oki Electric Industry Co. Ltd., Tokyo, Japan; On2 Technologies, New York, NY; OPTIBASE Ltd., Herzliya, Israel; Philips Electronics, Sunnyvale, CA; Sharp Laboratories of America, Inc., Camas, WA; Sony Corporation, Tokyo, Japan; Standby Program, New York, NY; Sun Microsystems, Palo Alto, CA; Telecom Italia Lab, Torino, Italy; Thomson, Boulogne, France; University of Washington, Seattle, WA; Vbrick Systems, Inc., Wallingford, CT; and Volera, San Jose, CA have been added as parties to this venture.

No other changes have been made in either the membership or planned activity of the group research project. Membership in this group research project remains open, and Internet Streaming Media Alliance, Inc. intends to file additional written notification disclosing all changes in membership.

On March 8, 2001, Internet Streaming Media Alliance, Inc. filed its original notification pursuant to section 6(a) of the Act. The Department of Justice published a notice in the Federal Register pursuant to section 6(b) of the Act on April 20, 2001 (66 FR 20334).

Dorothy B. Fountain,
Deputy Director of Operations, Antitrust Division.

[FR Doc. 03-24310 Filed 9-25-03; 8:45 am]

BILLING CODE 4410-11-M